DEPARTMENT OF LABOR

Employment and Training Administration

[TA-W-64,913]

Phillips Plastics Corporation, Custom Division, Including On-Site Leased Workers From Manpower, Phillips, WI; Notice of Termination of Investigation

Pursuant to Section 221 of the Trade Act of 1974, as amended, an investigation was initiated on January 15, 2009 in response to a petition filed on behalf of workers of Phillips Plastics Corporation, Custom Division, Phillips, Wisconsin.

The petitioner has requested that the petition be withdrawn. Consequently, the investigation has been terminated.

Signed at Washington, DC, this 22nd day of April 2009.
Linda G. Poole,
Certifying Officer, Division of Trade Adjustment Assistance.

[FR Doc. E9-11846 Filed 5-20-09; 8:45 am]

BILLING CODE 4510-FN-P